DEPARTMENT OF HOMELAND SECURITY

Federal Emergency Management Agency

[Internal Agency Docket No. FEMA-1980-DR; Docket ID FEMA-2011-0001]

Missouri; Amendment No. 5 to Notice of a Major Disaster Declaration

AGENCY: Federal Emergency Management Agency, DHS.

ACTION: Notice.

SUMMARY: This notice amends the notice of a major disaster for the State of Missouri (FEMA-1980-DR), dated May 9, 2011, and related determinations.

DATES: Effective Date: May 31, 2011.

FOR FURTHER INFORMATION CONTACT: Tod Wells, Recovery Directorate, Federal Emergency Management Agency, 500 C Street, SW., Washington, DC 20472, (202) 646-3834.

SUPPLEMENTARY INFORMATION: Notice is hereby given that, on May 31, 2011, the President amended the cost-sharing arrangements regarding Federal funds provided under the authority of the Robert T. Stafford Disaster Relief and Emergency Assistance Act, 42 U.S.C. 5121 et seq. (the “Stafford Act”), as follows:

A ninety percent (90%) Federal cost share for all debris removal, including direct Federal assistance, for those areas within counties designated for Public Assistance that are within, or immediately adjacent to, areas of “extensive” or “catastrophic” damage directly caused by the EF-5 tornado that struck Missouri on May 22, 2011, as determined by the Federal Coordinating Officer applying objective standards used by the National Geospatial-Intelligence Agency. I authorize this cost-share adjustment beginning May 22, 2011, through August 7, 2011. FEMA and the State of Missouri shall pursue any applicable private insurance payments for debris removal to reimburse Federal costs to the extent permitted by law.

This adjustment to State and local cost sharing applies only to Public Assistance costs, including direct Federal assistance, for eligible debris removal for those areas within counties designated for Public Assistance that are within, or immediately adjacent to, areas of “extensive” or “catastrophic” damage directly caused by the May 22, 2011, EF-5 tornado as determined above by the Federal Coordinating Officer. All other Public Assistance costs will continue to be reimbursed at 75 percent of total eligible costs. The law specifically prohibits a similar adjustment for funds provided to States for Other Needs Assistance (Section 408) and the Hazard Mitigation Grant Program (Section 404). These funds will continue to be reimbursed at 75 percent of total eligible costs.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households in Presidentially Declared Disaster Areas; 97.049, Presidentially Declared Disaster Assistance—Disaster Housing Operations for Individuals and Households; 97.050, Presidentially Declared Disaster Assistance to Individuals and Households—Other Needs; 97.036, Disaster Grants—Public Assistance (Presidentially Declared Disasters); 97.039, Hazard Mitigation Grant.)

Dated: June 6, 2011.
W. Craig Fugate,
Administrator, Federal Emergency Management Agency.

[FR Doc. 2011-14581 Filed 6-10-11; 8:45 am]

BILLING CODE 9111-23-P